DEPARTMENT OF ENERGY

Federal Energy Regulatory Commission

Combined Notice of Filings #1

Take notice that the Commission received the following electric rate filings:

Docket Numbers: ER15-838-002.

Applicants: AEP Texas Central Company.

Description: Tariff Amendment per 35.17(b): TCC-San Roman Wind I Interconnection Agreement Amendment Amd to be effective 1/29/2015.

Filed Date: 3/4/15.

Accession Number: 20150304-5190.

Comments Due: 5 p.m. ET 3/25/15.

Docket Numbers: ER15-1176-000.

Applicants: South Jersey Energy ISO6, LLC.

Description: Initial rate filing per 35.12 Market-based rate application to be effective 3/5/2015.

Filed Date: 3/4/15.

Accession Number: 20150304-5184.

Comments Due: 5 p.m. ET 3/25/15.

Docket Numbers: ER15-1177-000.

Applicants: South Jersey Energy ISO7, LLC.

Description: Initial rate filing per 35.12 Market-based rate application to be effective 3/5/2015.

Filed Date: 3/4/15.

Accession Number: 20150304-5187.

Comments Due: 5 p.m. ET 3/25/15.

Docket Numbers: ER15-1178-000.

Applicants: South Jersey Energy ISO8, LLC.

Description: Initial rate filing per 35.12 Market-based Rate Application to be effective 3/5/2015.

Filed Date: 3/4/15.

Accession Number: 20150304-5188.

Comments Due: 5 p.m. ET 3/25/15.

Docket Numbers: ER15-1179-000.

Applicants: Duke Energy Progress, Inc.

Description: § 205(d) rate filing per 35.13(a)(2)(iii): Amendment to Rate Schedule 182 to be effective 5/4/2015.

Filed Date: 3/6/15.

Accession Number: 20150305-5005.

Comments Due: 5 p.m. ET 3/27/15.

Docket Numbers: ER15-1180-000.

Applicants: Rochester Gas and Electric Corporation, New York Independent System Operator, Inc.

Description: § 205(d) rate filing per 35.13(a)(2)(iii): Joint 205 filing NYISO and RG&E re: SA No. 1829 Brown's Race Facility to be effective 2/19/2015.

Filed Date: 3/6/15.

Accession Number: 20150306-5000.

Comments Due: 5 p.m. ET 3/27/15.

Docket Numbers: ER15-1181-000.

Applicants: NorthWestern Corporation.

Description: § 205(d) rate filing per 35.13(a)(2)(iii): SA 305 6th Revised—NITSA with Stillwater Mining Company to be effective 7/1/2015.

Filed Date: 3/6/15.

Accession Number: 20150306-5032.

Comments Due: 5 p.m. ET 3/27/15.

Docket Numbers: ER15-1182-000.

Applicants: Southern California Edison Company.

Description: § 205(d) rate filing per 35.13(a)(2)(iii): LGIA with AES North America Development LLC to be effective 5/6/2015.

Filed Date: 3/6/15.

Accession Number: 20150306-5145.

Comments Due: 5 p.m. ET 3/27/15.

Docket Numbers: ER15-1183-000.

Applicants: Pacific Gas and Electric Company.

Description: § 205(d) rate filing per 35.13(a)(2)(iii): CCSF Ravenswood TFA and Removal Agreement Rate Schedule FERC No. 243 to be effective 3/6/2015.

Filed Date: 3/6/15.

Accession Number: 20150306-5193.

Comments Due: 5 p.m. ET 3/27/15.

Docket Numbers: ER15-1184-000.

Applicants: ISO New England Inc., New England Power Pool Participants Committee.

Description: § 205(d) rate filing per 35.13(a)(2)(iii): FCM PER to be effective 5/6/2015.

Filed Date: 3/6/15.

Accession Number: 20150306-5221.

Comments Due: 5 p.m. ET 3/27/15.

Docket Numbers: ER15-1186-000.

Applicants: New York Independent System Operator, Inc., Niagara Mohawk Power Corporation.

Description: Tariff Withdrawal per 35.15: NYISO notice of cancellation of LGIA Among NYISO, NiMo and Allega SA No. 1916 to be effective 5/28/2015.

Filed Date: 3/6/15.

Accession Number: 20150306-5248.

Comments Due: 5 p.m. ET 3/27/15.

Docket Numbers: ER15-1187-000.

Applicants: PacifiCorp.

Description: § 205(d) rate filing per 35.13(a)(2)(iii): OATT Revised Attachment H-1 (Rev Depreciation Rates 2015) to be effective 6/1/2015.

Filed Date: 3/6/15.

Accession Number: 20150306-5249.

Comments Due: 5 p.m. ET 3/27/15.

Docket Numbers: ER15-1188-000.

Applicants: Midcontinent Independent System Operator, Inc., American Transmission Systems, Incorporation.

Description: § 205(d) rate filing per 35.13(a)(2)(iii): 2015-03-06_SA 2756 ATC-Wisconsin Public Service Corp. CFA to be effective 5/6/2015.

Filed Date: 3/6/15.

Accession Number: 20150306-5250.

Comments Due: 5 p.m. ET 3/27/15.

Docket Numbers: ER15-1189-000.

Applicants: Central Maine Power Company.

Description: Tariff Withdrawal per 35.15: Termination of SGIA with Gallop Power Greenville, LLC to be effective 1/22/2015.

Filed Date: 3/6/15.

Accession Number: 20150306-5253.

Comments Due: 5 p.m. ET 3/27/15.

Docket Numbers: ER15-1190-000.

Applicants: Duke Energy Progress, Inc., Duke Energy Florida, Inc., Duke Energy Carolinas, LLC.

Description: § 205(d) rate filing per 35.13(a)(2)(iii): OATT Attachment C Amendment (revised) to be effective 2/10/2015.

Filed Date: 3/6/15.

Accession Number: 20150306-5263.

Comments Due: 5 p.m. ET 3/27/15.

Docket Numbers: ER15-1191-000.

Applicants: Midcontinent Independent System Operator, Inc., American Transmission Systems, Incorporation.

Description: § 205(d) rate filing per 35.13(a)(2)(iii): 2015-03-06_SA 766 Notice of Termination of Bills of Sale (ATC-WPSC) to be effective 5/6/2015.

Filed Date: 3/6/15.

Accession Number: 20150306-5264.

Comments Due: 5 p.m. ET 3/27/15.

Docket Numbers: ER15-1192-000.

Applicants: Midcontinent Independent System Operator, Inc.

Description: § 205(d) rate filing per 35.13(a)(2)(iii): 2015-03-06 Attachment HH (Dispute Resolution Procedures to be effective 5/6/2015.

Filed Date: 3/6/15.

Accession Number: 20150306-5296.

Comments Due: 5 p.m. ET 3/27/15.

Docket Numbers: ER15-1193-000.

Applicants: PJM Interconnection, L.L.C.

Description: § 205(d) rate filing per 35.13(a)(2)(iii): Revisions to OATT Att O and Att P re Enhanced Inverter Capabilities to be effective 5/1/2015.

Filed Date: 3/6/15.

Accession Number: 20150306-5298.

Comments Due: 5 p.m. ET 3/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2015.
Nathaniel J. Davis, Sr.,
Deputy Secretary.

[FR Doc. 2015-05864 Filed 3-13-15; 8:45 am]

BILLING CODE 6717-01-P